DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of persons whose property and interests in property have been unblocked and who have been removed from the Specially Designated Nationals and Blocked Persons List (SDN List).

DATES: OFAC's actions described in this notice were effective on June 7, 2024.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On June 7, 2024, OFAC removed from the SDN List the persons listed below, whose property and interests in property were blocked pursuant to Executive Order 14024 of April 15, 2021, “Blocking Property With Respect To Specified Harmful Foreign Activities of the Government of the Russian Federation,” 86 FR 20249, 3 CFR, 2021 Comp., p. 542 (Apr. 15, 2021) (E.O. 14024).

Individuals

1. STUDHALTER, Alexander-Walter (a.k.a. STUDHALTER, Alexander), Oberruti-Allee 14, Horw 6048, Switzerland; United Kingdom; Luxembourg; Spain; Germany; France; DOB 25 Jul 1968; POB Luzern, Switzerland; nationality Switzerland; Gender Male (individual) [RUSSIA-EO14024].

2. STUDHALTER, Hugo Ange Christophe (a.k.a. ETOURNEAU, Hugo Ange Christophe; a.k.a. STUDHALTER, Hugo), Oberruti-Allee 14, Horw 6048, Switzerland; DOB 12 Jan 2000; nationality France; alt. nationality Switzerland; Gender Male (individual) [RUSSIA-EO14024] (Linked To: SWISS INTERNATIONAL ADVISORY GROUP AG).

3. STUDHALTER, Jeremy Eric Camille (a.k.a. BAROZZI, Jeremy Eric Camille; a.k.a. STUDHALTER, Jeremy), Oberruti-Allee 14, Horw 6048, Switzerland; DOB 31 Oct 1996; POB Nice, Alpes-Maritimes, France; nationality France; Gender Male (individual) [RUSSIA-EO14024] (Linked To: SWISS INTERNATIONAL ADVISORY GROUP AG).

Entities

1. MG INTERNATIONAL AG (a.k.a. JSC MG INTERNATIONAL AG; a.k.a. MG INTERNESHNL AG PREDSTAVITELSTVO; f.k.a. MILLENNIUM GROUP AG; a.k.a. PRED AO MG INTERNESHNL AG; a.k.a. PREDSTAVITELSTVO AKTSIONERNOGO OBSHCHESTVA MG INTERNESHNL AG SHVEITSARIYA G MOSCOW), Matthofstrand 8, Luzern 6005, Switzerland; per. Staromonetnyi d. 37, korp. 1, Moscow 119017, Russia; Organization Established Date 27 Sep 2006; Organization Type: Management consultancy activities; Tax ID No. 113176962 (Switzerland); alt. Tax ID No. 9909260877 (Russia); Legal Entity Number 549300YR513TAPXJGM21; Registration Number CH-100.3.786.838-5 (Switzerland) [RUSSIA-EO14024].

2. EURIMO HOLDING SA, Rue Guillaume J. Kroll 12C, Luxembourg 1882, Luxembourg; Organization Established Date 28 Jul 2008; Organization Type: Activities of holding companies; Tax ID No. B 140.315 (Luxembourg); Legal Entity Number 549300536OAT4X4PNG53 [RUSSIA-EO14024] (Linked To: STUDHALTER, Alexander-Walter).

3. STUDHALTER INTERNATIONAL GROUP AG (f.k.a. RUFIN FINANZ AG; a.k.a. STUDHALTER INTERNATIONAL GROUPE AG; f.k.a. STUURMAN HOLDING AG), Matthofstrand 8, Luzern 6005, Switzerland; Organization Established Date 24 Mar 1998; Organization Type: Other financial service activities, except insurance and pension funding activities, n.e.c.; Tax ID No. 100923804 (Switzerland); Legal Entity Number 529900J9I6AM3N2EI717; Registration Number CH-100.3.021.077-4 (Switzerland) [RUSSIA-EO14024] (Linked To: STUDHALTER, Alexander-Walter).

4. SWISS INTERNATIONAL ADVISORY GROUP AG (f.k.a. INTRACONT TREUHAND AG; f.k.a. STUDHALTER TREUHAND AG), Matthofstrand 8, Luzern 6005, Switzerland; Organization Established Date 04 Nov 1986; Organization Type: Accounting, bookkeeping and auditing activities; tax consultancy; Tax ID No. 103755348 (Switzerland); Legal Entity Number 5493005XWZ1Q6ED29G15; Registration Number CH-100.3.006.955-6 (Switzerland) [RUSSIA-EO14024] (Linked To: STUDHALTER, Alexander-Walter).

5. SWISS INTERNATIONAL REAL ESTATE PORTFOLIO AG (f.k.a. SWISS INTERNATIONAL REAL ESTATE AG; f.k.a. V. MICHEL IMMOBILIEN AG), Matthofstrand 8, Luzern 6005, Switzerland; Organization Established Date 23 Oct 1996; Organization Type: Real estate activities with own or leased property; Tax ID No. 103524234 (Switzerland); Legal Entity Number 549300GY21AQGXZ45018; Registration Number CH-100.3.019.281-6 (Switzerland) [RUSSIA-EO14024] (Linked To: STUDHALTER, Alexander-Walter).

6. PAPA OSCAR VENTURES GMBH (f.k.a. DWNTOWN.LA GMBH; f.k.a. PAPA OSCAR FASHION GROUP GMBH), Mainzer Landstr. 33, Frankfurt am Main 60329, Germany; Organization Established Date 12 Jun 2017; Organization Type: Activities of holding companies; Tax ID No. DE 313145928 (Germany); Legal Entity Number 391200IDSLOEBYSU9N27; Registration Number HRB 109296 (Germany) [RUSSIA-EO14024] (Linked To: STUDHALTER, Alexander-Walter).

7. PAPA OSCAR VENTURES SE SL, Calle Girona 67—P. 3 PTA. 2, Barcelona 08009, Spain; Organization Established Date 01 Oct 2021; Organization Type: Activities of holding companies; Tax ID No. B16961633 (Spain) [RUSSIA-EO14024] (Linked To: STUDHALTER, Alexander-Walter).

8. SCI AAA PROPERTIES, Domaine Antica Serena, 309 Avenue Jules Romains, Nice 06100, France; Organization Established Date 19 Sep 2013; Organization Type: Real estate activities with own or leased property; Tax ID No. 797404373 (France); Legal Entity Number 549300AO0ISQ6ILHUU63 [RUSSIA-EO14024] (Linked To: STUDHALTER, Alexander-Walter).

Dated: June 7, 2024.
Bradley T. Smith,
Director, Office of Foreign Assets Control, U.S. Department of the Treasury.

[FR Doc. 2024-12852 Filed 6-11-24; 8:45 am]

BILLING CODE 4810-AL-P